DEPARTMENT OF AGRICULTURE

Natural Resources Conservation Service

Draft Supplemental Watershed Plan No. 1 and Environmental Assessment Plum Creek Watershed, Rehabilitation of Flood Retarding Structure (FRS) #18

AGENCY: Natural Resources Conservation Service, U.S. Department of Agriculture.

ACTION: Notice of Availability (NOA) of the Plum Creek FRS #18 Draft Supplemental Watershed Plan and Environmental Assessment.

SUMMARY: The Natural Resources Conservation Service, U.S. Department of Agriculture, Kentucky State Office, gives notice that a draft supplemental watershed plan/environmental assessment for the rehabilitation of Plum Creek FRS #18 is now available for public review and comment.

FOR FURTHER INFORMATION CONTACT: Jacob Kuhn, Acting State Conservationist, Natural Resource Conservation Service, 771 Corporate Drive, Suite 210, Lexington, KY 40503-5479, telephone (859) 224-7350.

SUPPLEMENTARY INFORMATION: This project was initiated due to the Kentucky Division of Water (KDOW) Office of Dam Safety issuance of a notice of violation (NOV) to the Plum Creek Watershed Conservancy District for Plum Creek FRS #18. Construction of FRS#18 was completed in 1957 under the Pilot Watershed Program and authorized by the Watershed Protection and Flood Prevention Act (PL 83-566). Due to changes in KDOW dam safety regulations and a pre-existing home below the dam, the KDOW is now requiring the dam to be upgraded to meet class C criteria (high hazard) or to remove the threat of flooding to the downstream home. The preferred alternative for this project is Alternative #2—demolition of the existing home and construction of a new elevated home on the same site. The proposed alternative would upgrade the dam to meet NRCS and KDOW current standards and criteria for a “Significant” or “Moderate” hazard (class B) dam and would replace the concrete riser and add a supplemental toe drain system to the dam.

FOR FURTHER INFORMATION CONTACT: Basic data developed during the environmental assessment are on file and may be reviewed by contacting Anita Arends, Resource Conservationist, telephone (859) 224-7354. Copies of the draft Plan/EA are available upon request. The public comment period will end 45-days after the date of this publication in the Federal Register.

Dated: September 20, 2006.
Jacob Kuhn,
Acting State Conservationist.

[FR Doc. E6-15776 Filed 9-26-06; 8:45 am]

BILLING CODE 3410-16-P